DEPARTMENT OF AGRICULTURE

Rural Business-Cooperative Service

Announcement of Small, Socially-Disadvantaged Producer Grant (SSDPG) Application Deadlines in Fiscal Year 2012

AGENCY: Rural Business-Cooperative Service, USDA.

ACTION: Notice of funding availability.

SUMMARY: The Rural Business-Cooperative Service announces the availability of approximately $3 million in competitive grant funds for the FY 2012 SSDPG program. See the Consolidated and Further Continuing Appropriations Act, 2012 (2012 Appropriations Act) (Pub. L. 112-55). We request proposals from applicants that will provide technical assistance to small, socially-disadvantaged agricultural producers in rural areas. Eligible applicants include Cooperatives, Groups of Cooperatives, and Cooperative Development Centers. The maximum award per grant is $175,000.

DATES: Completed applications for grants must be submitted on paper or electronically according to the following deadlines:

Paper copies must be postmarked and mailed, shipped, or sent overnight no later than July 24, 2012 to be eligible for FY 2012 grant funding. Late applications are not eligible for FY 2012 grant funding.

Electronic copies must be received by April 25, 2012, to be eligible for FY 2012 grant funding. Late applications will not be eligible for FY 2012 grant funding.

ADDRESSES: Application materials for the SSDPG program may be obtained at http://www.rurdev.usda.gov/BCP_SSDPG.html or by contacting your USDA Rural Development State Office. Contact information for State Offices can be found at http://www.rurdev.usda.gov/recd_map.html

Paper applications must be submitted to the USDA Rural Development State Office in the State where your organization's main office is located. Electronic applications must be submitted through the Grants.gov Web site at http://www.grants.gov. Please read the instructions found on the Grants.gov Web site and follow them carefully.

FOR FURTHER INFORMATION CONTACT: Visit the program Web site at http://www.rurdev.usda.gov/BCP_SSDPG.html for application assistance or contact your USDA Rural Development State Office. You are strongly encouraged to contact your State Office well in advance of the deadline to discuss your Project and ask any questions about the application process.

SUPPLEMENTARY INFORMATION:

Overview

Federal Agency Name: USDA Rural Business Cooperative Service.

Funding Opportunity Title: Small, Socially-Disadvantaged Producer Grant.

Announcement Type: Initial announcement.

Catalog of Federal Domestic Assistance Number: 10.77.1

Dates: Application Deadline: Completed applications for grants may be submitted on paper or electronically according to the following deadlines:

Paper copies must be postmarked and mailed, shipped, or sent overnight no later than July 24, 2012 to be eligible for FY 2012 grant funding. Late applications are not eligible for FY 2012 grant funding.

Complete electronic copies must be received by July 24, 2012, to be eligible for FY 2012 grant funding. Late applications are not eligible for FY 2012 grant funding.

I. Funding Opportunity Description

The 2012 Appropriations Act authorized up to $3 million for grants for Cooperative Development Centers, individual Cooperatives, or Groups of Cooperatives that serve socially-disadvantaged groups and where a majority of their governing board is comprised of members of socially-disadvantaged groups or at least 75 percent of their membership is comprised of socially-disadvantaged producers. The SSDPG Program is authorized by 310B (e) of the Consolidated Farm and Rural Development Act (7 U.S.C. 1932). The primary objective of the SSDPG program is to provide Technical Assistance to Small, Socially-Disadvantaged Agricultural Producers. Grants are awarded on a competitive basis. The maximum award amount per grant is $175,000.

Definitions

Agency—Rural Business-Cooperative Service, an agency of the United States Department of Agriculture (USDA) Rural Development or a successor agency.

Agricultural Commodity—An unprocessed product of farms, ranches, nurseries, and forests. Agricultural commodities include: livestock, poultry, and fish; fruits and vegetables; grains, such as wheat, barley, oats, rye, triticale, rice, corn, and sorghum; legumes, such as field beans and peas; animal feed and forage crops; seed crops; fiber crops, such as cotton; oil crops, such as safflower, sunflower, corn, and cottonseed; trees grown for lumber and wood products; nursery stock grown commercially; Christmas trees; ornamentals and cut flowers; and turf grown commercially for sod. Agricultural commodities do not include horses or animals raised as pets, such as cats, dogs, and ferrets.

Conflict of Interest—A situation in which the ability of a person or entity to act impartially would be questionable due to competing professional or personal interests. An example of conflict of interest occurs when the grantee's employees, board of directors, including their immediate family, have a legal or personal financial interest in the recipients receiving the benefits or services of the grant.

Cooperative—A farmer- or rancher-owned and -controlled business, organized and chartered as a cooperative, from which benefits are derived and distributed equitably on the basis of use by each of the farmer or rancher owners whose primary focus is to provide assistance to Small, Socially-Disadvantaged Agricultural Producers and where a majority of their governing board is comprised of individuals who are members of socially-disadvantaged groups or at least 75 percent of their membership is comprised of socially-disadvantaged producers.

Cooperative Development Center—A nonprofit corporation or accredited institution of higher education that is established or operated by the grantee for rural cooperative development. It may or may not be an independent legal entity separate from the grantee. The Center's main objective is to assist Cooperatives with their startup, expansion or operational improvement in order to promote development in rural areas of services and products, processes that can be used in the marketing of products, or enterprises that create Value-Added to farm products through processing or marketing activities. Cooperative development activities may include, but are not limited to, Technical Assistance, research services, educational services and advisory services. Operational improvement includes making the Cooperative more efficient or better managed.

Cooperative Programs—The office within Rural Business-Cooperative Service, and any successor organization, that administers programs authorized by the Cooperative Marketing Act of 1926 (7 U.S.C. 451 et seq.) and such other programs identified in USDA regulations.

Economic Development—The economic growth of an area as evidenced by increase in total income, employment opportunities, decreased out-migration of population, value of production, increased diversification of industry, higher labor force participation rates, increased duration of employment, higher wage levels, or gains in other measurements of economic activity, such as land values.

Feasibility Study—An analysis of the economic, market, technical, financial, and management feasibility of a proposed Project.

Group of Cooperatives—A group of Cooperatives whose primary focus is to provide assistance to Small, Socially-Disadvantaged Agricultural Producers and where a majority of their governing board is comprised of individuals who are members of socially-disadvantaged groups or at least 75 percent of their membership is comprised of socially-disadvantaged producers.

Operating Cost—The day-to-day expenses of running a business; for example: utilities, rent, salaries, depreciation, product production costs, marketing and advertising, and other basic overhead items.

Project—Includes all activities to be funded by the Small Socially-Disadvantaged Producer Grant.

Rural and Rural Area—Any area of a State:

(1) Not in a city or town that has a population of more than 50,000 inhabitants, according to the latest decennial census of the United States; and

(2) The contiguous and adjacent urbanized area,

(3) Urbanized areas that are rural in character as defined by 7 U.S.C. 1991 (a) (13), as amended by Section 6018 of the Food, Conservation, and Energy Act of 2008, Public Law 110-246 (June 18, 2008).

(4) For the purposes of this definition, cities and towns are incorporated population centers with definite boundaries, local self-government, and legal powers set forth in a charter granted by the State. Notwithstanding any other provision of this paragraph, within the areas of the County of Honolulu, Hawaii, and the Commonwealth of Puerto Rico, the Secretary may designate any part of the areas as a rural area if the Secretary determines that the part is not urban in character, other than any area included in the Honolulu census designated place (CDP) or the San Juan CDP.

Rural Development—A mission area within USDA consisting of the Office of Under Secretary for Rural Development, Rural Development Business and Cooperative Programs, Rural Development Housing Programs, and Rural Development Utilities Programs and any successors.

Small, Socially-Disadvantaged Producer—Socially-Disadvantaged persons or at least 75 percent Socially-Disadvantaged Producer-owned entities including farmers, ranchers, loggers, agricultural harvesters, and fishermen, that have averaged $250,000 or less in annual gross sales of agricultural products in the last 3 years.

Socially-Disadvantaged Producer—Individual agricultural producer who is a member of a group whose members have been subjected to racial, ethnic or gender prejudice, without regard for their individual qualities.

State—Includes each of the several states, the Commonwealth of Puerto Rico, the Virgin Islands of the United States, Guam, American Samoa, the Commonwealth of the Northern Mariana Islands, and, as may be determined by the Secretary to be feasible, appropriate and lawful, the Federated States of Micronesia, the Republic of the Marshall Islands and the Republic of Palau.

Technical Assistance—An advisory service performed for the benefit of a Small, Socially-Disadvantaged Producer such as market research; product and/or service improvement; legal advice and assistance; Feasibility Study, business plan, and marketing plan development; and training. Technical Assistance does not include the Operating Costs of a cooperative being assisted.

Value-Added—The incremental value that is realized by the producer from an agricultural commodity or product as the result of a change in its physical state, differentiated production or marketing, as demonstrated in a business plan, or product segregation. Incremental value may be realized by the producer as a result of either an increase in value to buyers or the expansion of the overall market for the product. Examples include milling wheat into flour, slaughtering livestock or poultry, making strawberries into jam, and marketing of organic products.

II. Award Information

A. Type of Award: Grant.

B. Fiscal Year Funds: FY 2012.

C. Approximate Total Funding: $3 million.

D. Approximate Number of Awards: 17.

E. Floor of Award Range: None.

F. Ceiling of Award Range: $175,000.

G. Anticipated Award Date: September 1, 2012.

H. Budget Period Length: 12 months.

I. Project Period Length: 12 months.

III. Eligibility Information

A. Eligible Applicants. Grants may be made to Cooperatives, Groups of Cooperatives, and Cooperative Development Centers. You must be able to verify your legal structure in the State in which you are incorporated. Grants may not be made to public bodies or to individuals.

B. Cost Sharing or Matching. No matching funds are required.

C. Other Eligibility Requirements

Use of Funds: Funds may only be used for Technical Assistance Projects as defined in this Notice.

Project Area Eligibility: The proposed Project must take place in a Rural Area as defined in this Notice.

Grant Period Eligibility: If awarded, grant funds must be used within 12 months. Applications must have a time frame of one year or less. Your proposed time frame should begin no earlier than the grant award date and end no later than December 31, 2013. However, you should note that the anticipated award date is September 1 so your proposed start date should be after September 1, 2012. Projects must be completed within the 12-month time frame. The Agency has the option to approve requests to extend the grant period for up to 12 months. However, if you receive another SSDPG grant during the next grant cycle, the first grant must be closed before funds can be obligated for the new grant. Applications that request funds for a time period ending after December 31, 2013, will not be considered for funding.

Completeness Eligibility: Your application must provide all of the information requested in Section IV (B) of this Notice. Applications lacking sufficient information to determine eligibility and scoring will be considered ineligible.

Multiple Grant Eligibility: You may only submit one SSDPG grant application each funding cycle.

Activity Eligibility: Your application must propose Technical Assistance that will benefit Small Socially-Disadvantaged Producers in Rural Areas. Please review section IV (G) of this Notice, “Funding Restrictions,” carefully. Your application will be ineligible for funding if it includes ineligible costs that equal more than 10 percent of total Project costs. If your application contains ineligible costs that equal or are less than 10 percent of total Project costs, it may still be considered for funding. You must remove the ineligible costs from the budget if your application is selected for funding. You can replace the ineligible costs with eligible activities or reduce the grant award by the amount of ineligible costs. Applications that duplicate current activities or activities paid for by other grant programs will not be funded.

IV. Application and Submission Information

A. Address to Request Application Package. The application package for applying on paper for this funding opportunity is located at http://www.rurdev.usda.gov/BCP_SSDPG.html. You may also contact your USDA Rural Development State Office for more information. Contact information for State Offices is located at http://www.rurdev.usda.gov/recd_map.html.

B. Content and Form of Submission. Applications must be submitted on paper or electronically. Applications may not be submitted by electronic mail or facsimile. An application guide may be viewed at http://www.rurdev.usda.gov/BCP_SSDPG.html. We recommend that you use the application template provided on the Web site. The template can be filled out electronically and printed out for submission with the required forms for paper submission or it can be filled out electronically and submitted as an attachment through http://www.grants.gov.

Please visit Grants.gov well in advance of the application deadline if you plan to apply electronically to make sure you have enough time to get the proper authentication and have sufficient computer resources to complete the application process.

You must prepare and submit the following information to complete your application. Information submitted as part of the application will be protected to the extent permitted by law.

1. Form SF-424, “Application for Federal Assistance,” must be completed, signed, and include a Dunn and Bradstreet Data Universal Numbering System (DUNS) number. You must also maintain registration in the Central Contractor Registration (CCR) database. See 2 CFR § 25.200(b). The DUNS number is a nine-digit identification number which uniquely identifies business entities. There is no charge. To obtain a DUNS number, access http://www.dnb.com/us/ or call 866-705-5711. Similarly, applicants may register for the CCR at http://www.ccr.gov. Assistance with CCR registration is available by calling 1-866-606-8220. The CCR CAGE Code and expiration date may be handwritten on the SF-424. For more information, see the SSDPG web site at http://www.rurdev.usda.gov/BCP_SSDPG.html or contact the USDA Rural Development State Office at http://www.rurdev.usda.gov/recd_map.html.

2. Form SF-424A, “Budget Information—Non-Construction Programs.” This form must be completed and submitted as part of the application package.

3. Form SF-424B, “Assurances—Non-Construction Programs.” This form must be completed, signed, and submitted as part of the application package.

4. Table of Contents. Your application must contain a detailed Table of Contents (TOC) immediately following the SF-424B. The TOC must include page numbers for each part of the application. Page numbers should begin immediately following the TOC.

5. Executive Summary. A summary of the proposal, not to exceed one page, must briefly describe the Project, tasks to be completed, and other relevant information that provides a general overview of the Project.

6. Eligibility Discussion. A detailed discussion, not to exceed four pages, must describe how you meet the following requirements:

(i) Applicant Eligibility. You must describe how you meet the definition of a Cooperative, Group of Cooperatives, or Cooperative Development Center. If applying as a Cooperative or a Group of Cooperatives, you must verify your incorporation in the State that you have applied by providing the State's Certificate of Good Standing, and your Articles of Incorporation and By-Laws. If applying as a Cooperative Development Center, you must provide evidence of your status as a nonprofit corporation or an accredited institution of higher education and a copy of your mission statement. You must apply as only one type of applicant.

(ii) Use of Funds. You must provide a detailed discussion on how the proposed Project activities meet the definition of Technical Assistance.

(iii) Project Area. You must provide specific information that details the location of the Project area and explain how the area meets the definition of “Rural Area.”

(iv) Grant Period. You must provide a time frame for the proposed Project and discuss how the Project will be completed within that time frame.

7. Budget/Work plan. You must describe, in detail not to exceed four pages, the purpose of the grant, what type of assistance will be provided, and the total amount of funds needed for the Project. The budget must also present a breakdown of estimated costs associated with each task/activity for each Project. The amount of grant funds requested will be reduced if the applicant does not have justification for all costs.

8. Evaluation Criteria. Each of the evaluation criteria in this Notice must be addressed in narrative form, with a maximum of two pages for each individual evaluation criteria. Failure to address each evaluation criteria will result in the application being determined ineligible.

C. Submission Dates and Times

Application Deadline Date: July 24, 2012.

Explanation of Deadlines: Paper applications must be POSTMARKED and mailed, shipped, or sent overnight by the deadline date. Electronic applications must be received by http://www.grants.gov by the deadline date. If your application does not meet the deadline, it will not be considered for funding. You will be notified if your application did not meet the submission deadline.

D. National Environmental Policy Act. We have determined that the activities proposed under the SSDPG program do not have a significant effect on the quality of the environment. You do NOT have to submit an Environmental Impact Statement. See 7 CFR part 1940, subpart G.

E. Civil Rights Compliance Requirements. All grants made under this Notice are subject to Title VI of the Civil Rights Act of 1964 as required by the USDA (7 CFR part 15, subpart A) and Section 504 of the Rehabilitation Act of 1973.

F. Intergovernmental Review of Applications. Executive Order (EO) 12372, Intergovernmental Review of Federal Programs, applies to this program. This EO requires that Federal agencies provide opportunities for consultation on proposed assistance with State and local governments. Many States have established a Single Point of Contact (SPOC) to facilitate this consultation. A list of States that maintain a SPOC may be obtained at http://www.whitehouse.gov/omb/grants_spoc. If your State has a SPOC, you may submit your application directly for review. Any comments obtained through the SPOC must be provided to Rural Development for consideration as part of your application. If your State has not established a SPOC or you do not want to submit your application to the SPOC, Rural Development will submit your application to the SPOC or other appropriate agency or agencies.

You are also encouraged to contact Cooperative Programs at 202-720-8460 or cpgrants@wdc.usda.gov if you have questions about this process.

G. Federal Funding and Transparency Act Requirements. Please note that you must obtain a Dun and Bradstreet Data Universal Numbering System (DUNS) number and register in the Central Contractor Registration (CCR) prior to submitting a pre-application. See 2 CFR 25.200(b). In addition, you must maintain registration in the CCR database at all times during which you have an active Federal award or an application. All recipients of Federal financial assistance are required to report information about first-tier sub awards and executive compensation. See 2 CFR part 170. Finally, an applicant must have the necessary processes and systems in place to comply with the reporting requirements in 2 CFR 170.200(b), as long as it is not exempted from reporting. Exemptions are identified at 2 CFR 170.110(b).

H. Funding Restrictions. Grant funds must be used for Technical Assistance. No funds made available under this solicitation shall be used to:

1. Plan, repair, rehabilitate, acquire, or construct a building or facility, including a processing facility;

2. Purchase, rent, or install fixed equipment, including processing equipment;

3. Purchase vehicles, including boats;

4. Pay for the preparation of the grant application;

5. Pay expenses not directly related to the funded Project;

6. Fund political or lobbying activities;

7. Fund any activities prohibited by 7 CFR parts 3015 or 3019;

8. Fund architectural or engineering design work for a specific physical facility;

9. Fund any direct expenses for the production of any commodity or product to which value will be added, including seed, rootstock, labor for harvesting the crop, and delivery of the commodity to a processing facility;

10. Fund research and development;

11. Purchase land;

12. Duplicate current activities or activities paid for by other funded grant programs.

13. Pay costs of the Project incurred prior to the date of grant approval;

14. Pay for assistance to any private business enterprise that does not have at least 51 percent ownership by those who are either citizens of the United States or reside in the United States after being legally admitted for permanent residence;

15. Pay any judgment or debt owed to the United States;

16. Pay the Operating Costs of the Cooperative, Group of Cooperatives, or Cooperative Development Center;

17. Pay expenses for applicant employee training; or

18. Pay for any goods or services from a person who has a Conflict of Interest with the grantee.

V. Application Scoring Criteria Review Information

A. Criteria. All eligible and complete applications will be evaluated based on the following criteria. Failure to address any one of the following criteria by the application deadline will result in the application being determined ineligible and the application will not be considered for funding. The total points possible for the criteria are 60. Any application receiving less than 35 total points will not be funded.

1. Technical Assistance (0-15 points). We will evaluate your application to determine your ability to assess the needs of Small Socially-Disadvantaged Producers, plan and conduct appropriate and effective Technical Assistance, and identify the expected outcomes of that assistance.

(i) 0 points are awarded if you do not address this criterion.

(ii) 5 points are awarded if you show weakness in addressing this criterion.

(iii) 10 points are awarded if you show you meet part but not all of the criterion.

(iv) 15 points are awarded if you identify specific needs of the Socially-Disadvantaged Producers to be assisted; clearly explain a logical and detailed plan of assistance for addressing those needs; and discuss realistic outcomes of planned assistance.

2. Experience (0-15 points). Points are awarded based upon length of experience of identified staff or consultants in providing Technical Assistance, as defined in this Notice. You must describe the specific type of Technical Assistance experience for each identified staff member or consultant, as well as years of experience in providing that assistance. In addition, resumes for each individual staff member or consultant must be included as an attachment, listing their experience for the type of Technical Assistance proposed. The attachments will not count toward the maximum page total. We will compare the described experience to the work plan to determine relevance of the experience.

(i) 0 points are awarded if the staff or consultants demonstrate no relevant experience in providing Technical Assistance.

(ii) 5 points are awarded if at least one of the identified staff or consultants demonstrates more than two years of experience in providing relevant Technical Assistance.

(iii) 10 points are awarded if at least one of the identified staff or consultants demonstrates 5 or more years of experience in providing relevant Technical Assistance.

(iv) 15 points are awarded if all of the identified staff or consultants demonstrate 5 or more years of experience in providing relevant Technical Assistance.

3. Commitment (0-15 points). We will evaluate your commitment to providing Technical Assistance to Small, Socially-Disadvantaged Producers in Rural Areas. Points are awarded based upon the number of Socially-Disadvantaged Producers being assisted. You must list the number and location of Small, Socially-Disadvantaged Producers that will directly benefit from the assistance provided.

(i) 0 points are awarded if you do not address this criterion.

(ii) 5 points are awarded if the proposed Project will benefit 1-10 Small, Socially-Disadvantaged Producers.

(iii) 10 points are awarded if the proposed Project will benefit 11-50 Small, Socially-Disadvantaged Producers.

(iv) 15 points are awarded if the proposed Project will benefit more than 50 Small, Socially-Disadvantaged Producers.

4. Work Plan/Budget (0-10 points). The work plan will be reviewed for detailed actions and a timetable for implementing the proposal. Clear, logical, and realistic plans will result in a higher score. Budgets will be reviewed for completeness.

(i) 0 points are awarded if you do not address this criterion.

(ii) 5 points are awarded if you provide a work plan and budget with a cost breakdown but show weakness in addressing this criterion.

(iii) 10 points are awarded if you provide a detailed work plan that is clear and logical and a budget with a breakdown of estimated costs associated with proposed tasks.

4. Local support (0-5 points). Applications are reviewed for local support of the Technical Assistance activities. Applicants that demonstrate strong support from potential beneficiaries and other developmental organizations will receive more points than those not showing such support.

(i) 0 points are awarded if you do not address this criterion.

(ii) 1 point is awarded if you provide 2-3 support letters that show support from potential beneficiaries and/or support from local organizations.

(iii) 2 points are awarded if you provide 4 -5 support letters that show support from potential beneficiaries and/or support from local organizations.

(iv) 3 points are awarded if you provide 6-7 support letters that show support from potential beneficiaries and/or support from local organizations.

(v) 4 points are awarded if you provide 8-9 support letters that show support from potential beneficiaries and/or support from local organizations.

(vi) 5 points are awarded if you provide 10 support letters that show support from potential beneficiaries and/or support from local organizations.

You may submit a maximum of 10 letters of support. These letters should be included as an attachment to the application and will not count against the maximum page total. Additional letters from industry groups, commodity groups, local and State government, and similar organizations should be referenced, but not included in the application package. When referencing these letters, provide the name of the organization, date of the letter, the nature of the support, and the name and title of the person signing the letter.

B. Review and Selection Process. We will screen all proposals to determine whether the application is eligible and responsive to the requirements in this Notice. Eligible applications will be scored by the applicable State Office and then submitted to the National Office for review and ranking. The National Office will review the scores based upon the point allocation specified in this Notice. Applications are funded in scoring rank order and submitted to the Administrator in rank order with funding level recommendations. The Administrator will break scoring ties based on Agency priorities for geographic distribution of grants, and serving underserved groups and underserved areas.

C. Anticipated Announcement and Award Dates. The announcement of award selections is expected to occur on or about September 1, 2012, subject to funding.

VI. Award Administration Information

A. Award Notices. Successful applicants will receive a notification of tentative selection for funding from Rural Development. Applicants must comply with all applicable statutes, regulations, and this Notice before the grant award will receive final approval.

Unsuccessful applicants will receive notification, including appeal rights, by mail.

B. Administrative and National Policy Requirements. 7 CFR parts 3015 and 3019, and subparts A and F of 7 CFR part 4284 are applicable to grants made under this Notice. These regulations may be obtained at http://www.gpoaccess.gov/cfr/index.html.

The following additional requirements apply to grantees selected for this program:

• Agency approved Grant Agreement.

• Letter of Conditions.

• Form RD 1940-1, “Request for Obligation of Funds.”

• Form RD 1942-46, “Letter of Intent to Meet Conditions.”

• Form AD-1047, “Certification Regarding Debarment, Suspension, and Other Responsibility Matters—Primary Covered Transactions.”

• Form AD-1048, “Certification Regarding Debarment, Suspension, Ineligibility and Voluntary Exclusion—Lower Tier Covered Transactions.”

• Form AD-1049, “Certification Regarding a Drug-Free Workplace Requirement (Grants).”

• Form RD 400-4, “Assurance Agreement.”

Additional information on these requirements can be found at http://www.rurdev.usda.gov/BCP_SSDPG.html.

Fund Disbursement: We will determine, based on 7 CFR Parts 3015, 3016 and 3019, as applicable, whether disbursement of a grant will be by advance or reimbursement. As needed, but not more frequently than once every 30 days, an original SF-270, “Request for Advance or Reimbursement,” may be submitted to Rural Development. Your request for advance shall not be made in excess of reasonable costs for the month covered.

Reporting Requirements: Grantees must provide Rural Development with an original or an electronic copy that includes all required signatures of the following reports. The reports should be submitted to the Agency contact listed on the Grant Agreement and Letter of Conditions. Failure to submit satisfactory reports on time may result in suspension or termination of the grant. Grantees will submit:

1. Form SF-425. A “Federal Financial Report,” listing expenditures according to agreed upon budget categories, on a semi-annual basis. Reporting periods end each March 31 and September 30. Reports are due 30 days after the reporting period ends.

2. Semi-annual performance reports comparing accomplishments to the objectives stated in the proposal, identifying all tasks completed to date and providing documentation supporting the reported results. If the original schedule provided in the work plan is not being met, the report should discuss the problems or delays that may affect completion of the Project. Objectives for the next reporting period should be listed. Compliance with any special condition on the use of award funds must be discussed. Reports are due as provided in paragraph (1) of this section. Supporting documentation must also be submitted for completed tasks. The supporting documentation for completed tasks includes, but is not limited to, feasibility studies, marketing plans, business plans, articles of incorporation, and bylaws as they relate to the assistance provided.

3. Final Project performance reports comparing accomplishments to the objectives stated in the proposal, identifying all tasks completed, and providing documentation supporting the reported results. If the original schedule provided in the work plan was not met, the report must discuss the problems or delays that affected completion of the Project. Compliance with any special condition on the use of award funds must be discussed. Supporting documentation for completed tasks must also be submitted. The supporting documentation for completed tasks includes, but is not limited to, Feasibility Studies, marketing plans, business plans, articles of incorporation, and bylaws as they relate to the assistance provided. The final performance report is due within 90 days of the completion of the Project. The report must also include a summary at the end of the report with the number of Small Socially-Disadvantaged Producers assisted to help in documenting the annual performance goals of the SSDPG program for Congress.

VII. Agency Contacts

For general questions about this announcement and for program Technical Assistance, please contact the appropriate State Office as indicated in the ADDRESSES section of this Notice.

VIII. Discrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Director, Office of Adjudication and Compliance, 1400 Independence Avenue SW., Washington, DC 20250-9410 or call (800) 795-3272 (voice) or (202) 720-6382 (TDD). USDA is an equal opportunity provider and employer.

Dated: April 13, 2012.
Judith A. Canales,
Administrator, Rural Business-Cooperative Service.

[FR Doc. 2012-9997 Filed 4-24-12; 8:45 am]

BILLING CODE 3410-XY-P